DEPARTMENT OF ENERGY

10 CFR Part 430

[Case Number 2020-020; EERE-2020-BT-WAV-0035]

Energy Conservation Program: Notification of Petition for Waiver of Ningbo FOTILE Kitchen Ware Co. Ltd. From the Department of Energy Dishwashers Test Procedure and Notification of Grant of Interim Waiver

AGENCY: Office of Energy Efficiency and Renewable Energy, Department of Energy.

ACTION: Notification of petition for waiver and grant of an interim waiver; request for comments.

SUMMARY: This notification announces receipt of and publishes a petition for waiver and interim waiver from Ningbo FOTILE Kitchen Ware Co. Ltd. (“FOTILE”), which seeks a waiver for specified dishwasher basic models from the U.S. Department of Energy (“DOE”) test procedure used for determining the energy and water consumption of dishwashers. DOE also gives notification of an Interim Waiver Order that requires FOTILE to test and rate the specified dishwasher basic models in accordance with the alternate test procedure set forth in the Interim Waiver Order. DOE solicits comments, data, and information concerning FOTILE's petition and its suggested alternate test procedure so as to inform DOE's final decision on FOTILE's waiver request.

DATES: The Interim Waiver Order is effective on February 8, 2021. Written comments and information are requested and will be accepted on or before March 10, 2021.

ADDRESSES: Interested persons are encouraged to submit comments using the Federal eRulemaking Portal at http://www.regulations.gov. Alternatively, interested persons may submit comments, identified by case number “2020-020”, and Docket number “EERE-2020-BT-WAV-0035,” by any of the following methods:

• Federal eRulemaking Portal: http://www.regulations.gov. Follow the instructions for submitting comments.

• Email: FotileDishwasher2020WAV0035@ee.doe.gov. Include Case No. 2020-020 in the subject line of the message.

• Postal Mail: Appliance and Equipment Standards Program, U.S. Department of Energy, Office of Energy Efficiency and Renewable Energy, Building Technologies Office, Mailstop EE-5B, Petition for Waiver Case No. 2020-020, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (“faxes”) will be accepted. For detailed instructions on submitting comments and additional information on this process, see the SUPPLEMENTARY INFORMATION section of this document.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2020-BT-WAV-0035. The docket web page contains instruction on how to access all documents, including public comments, in the docket. See the SUPPLEMENTARY INFORMATION section for information on how to submit comments through http://www.regulations.gov.

FOR FURTHER INFORMATION CONTACT:

Ms. Lucy deButts, U.S. Department of Energy, Office of Energy Efficiency and Renewable Energy, Building Technologies Office, Mailstop EE-5B, 1000 Independence Avenue SW, Washington, DC 20585-0121. Email: AS_Waiver_Request@ee.doe.gov.

Ms. Elizabeth Kohl, U.S. Department of Energy, Office of the General Counsel, Mail Stop GC-33, Forrestal Building, 1000 Independence Avenue SW, Washington, DC 20585-0103. Telephone: (202) 586-7796. Email: Elizabeth.Kohl@hq.doe.gov.

SUPPLEMENTARY INFORMATION: On October 15, 2020, FOTILE filed a petition for waiver and interim waiver from the test procedure for dishwashers set forth at Appendix C1.¹ In its petition for waiver, FOTILE stated that the subject dishwasher models, which FOTILE described as “in-sink” dishwashers, do not have a main detergent compartment and have different installation instructions than under-counter or under-sink dishwashers. FOTILE has requested DOE waive sections of the dishwasher test procedure pertaining to installation requirements and placement of the detergent. FOTILE has suggested an alternate test procedure to install the dishwasher basic models from the top of a rectangular enclosure (as opposed to the front) and to specify placement of the detergent directly into the dishwasher chamber.

¹ The specific basic models for which the petition applies are dishwasher basic models SD2F-P1X and SD2F-P1XL. These basic model names were provided by FOTILE in its October 15, 2020 petition.

DOE has reviewed FOTILE's application for an interim waiver and the alternate test procedure requested by FOTILE. DOE also reviewed manufacturer information available on-line, including the operation manual ² for the specified basic models. Based on this review, the suggested alternate test procedure appears to allow for the accurate measurement of the energy and water consumption of the specified basic models, while alleviating the testing problems associated with FOTILE's implementation of dishwasher testing for these basic models. Consequently, DOE has determined that FOTILE's petition for waiver likely will be granted. Furthermore, DOE has determined that it is desirable for public policy reasons to grant FOTILE immediate relief pending a determination of the petition for waiver.

² The operation manual can be found in the docket at https://www.regulations.gov/docket?D=EERE-2020-BT-WAV-0035.

DOE notes, however, that FOTILE's alternate test procedure specifies a test enclosure that differs from the installation instructions provided in the operation manual. Specifically, the alternate test procedure retains a requirement in Section 2.1 that the enclosure be brought into the closest contact with the appliance that the configuration of the dishwasher will allow. In the case of FOTILE's basic model, this would include close contact between the bottom of the enclosure and the underside of the in-sink dishwasher. Because the height of the product is 21 5/16 inches (541 millimeters (mm)), such proximity and resulting height of the test enclosure close to that value would conflict with the installation instructions in the operation manual, which specify a minimum enclosure height of 35 7/16 inches (900 mm), and may potentially result in differing heat losses from the dishwasher that could impact energy consumption during the cycle. DOE requests comment on any such potential impacts on energy consumption as a result of the test enclosure specifications in the alternate test procedure, and on whether installation should be required in accordance with the operation manual to provide results that are more representative of average use.

DOE is publishing FOTILE's petition for waiver in its entirety, pursuant to 10 CFR 430.27(b)(1)(iv).³ DOE invites all interested parties to submit in writing by March 10, 2021, comments and information on all aspects of the petition, including the alternate test procedure. Pursuant to 10 CFR 430.27(d), any person submitting written comments to DOE must also send a copy of such comments to the petitioner. The contact information for the petitioner is Jason Gastman, jason.gastman@fotile.com, 6 Campus Dr., Suite 210, Parsippany, NJ 07054.

³ The petition did not identify any of the information contained therein as confidential business information.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: One copy of the document marked confidential including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on December 14, 2020, by Daniel R. Simmons, Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 18, 2020.
Treena V. Garrett,
Federal Register Liaison Officer, U.S. Department of Energy.

Case Number 2020-020

Interim Waiver Order

I. Background and Authority

The Energy Policy and Conservation Act, as amended (“EPCA”),⁴ authorizes the U.S. Department of Energy (“DOE”) to regulate the energy efficiency of a number of consumer products and certain industrial equipment. (42 U.S.C. 6291-6317) Title III, Part B ⁵ of EPCA, Public Law 94-163 (42 U.S.C. 6291-6309, as codified), established the Energy Conservation Program for Consumer Products Other Than Automobiles, which sets forth a variety of provisions designed to improve energy efficiency for certain types of consumer products. These products include dishwashers, the subject of this Interim Waiver Order. (42 U.S.C. 6292(a)(6))

⁴ All references to EPCA in this document refer to the statute as amended through America's Water Infrastructure Act of 2018, Public Law 115-270 (Oct. 23, 2018).

⁵ For editorial reasons, upon codification in the U.S. Code, Part B was redesignated as Part A.

The energy conservation program under EPCA consists essentially of four parts: (1) Testing, (2) labeling, (3) Federal energy conservation standards, and (4) certification and enforcement procedures. Relevant provisions of EPCA include definitions (42 U.S.C. 6291), test procedures (42 U.S.C. 6293), labeling provisions (42 U.S.C. 6294), energy conservation standards (42 U.S.C. 6295), and the authority to require information and reports from manufacturers (42 U.S.C. 6296).

The Federal testing requirements consist of test procedures that manufacturers of covered products must use as the basis for: (1) Certifying to DOE that their products comply with the applicable energy conservation standards adopted pursuant to EPCA (42 U.S.C. 6295(s)), and (2) making representations about the efficiency of that product (42 U.S.C. 6293(c)). Similarly, DOE must use these test procedures to determine whether the covered product complies with relevant standards promulgated under EPCA. (42 U.S.C. 6295(s))

Under 42 U.S.C. 6293, EPCA sets forth the criteria and procedures DOE is required to follow when prescribing or amending test procedures for covered products. EPCA requires that any test procedures prescribed or amended under this section must be reasonably designed to produce test results which reflect the energy efficiency, energy use or estimated annual operating cost of a covered product during a representative average use cycle or period of use and requires that test procedures not be unduly burdensome to conduct. (42 U.S.C.6293(b)(3)) The test procedure for dishwashers is contained in the Code of Federal Regulations (“CFR”) at 10 CFR part 430, subpart B, appendix C1, “Uniform Test Method for Measuring the Energy Consumption of Dishwashers” (“Appendix C1”).

Under 10 CFR 430.27, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. 10 CFR 430.27(f)(2). A petitioner must include in its petition any alternate test procedures known to the petitioner to evaluate the performance of the product type in a manner representative of the energy consumption characteristics of the basic model. 10 CFR 430.27(b)(1)(iii). DOE may grant the waiver subject to conditions, including adherence to alternate test procedures. 10 CFR 430.27(f)(2).

As soon as practicable after the granting of any waiver, DOE will publish in the Federal Register a notice of proposed rulemaking to amend its regulations so as to eliminate any need for the continuation of such waiver. 10 CFR 430.27(l). As soon thereafter as practicable, DOE will publish in the Federal Register a final rule to that effect. Id.

The waiver process also provides that DOE may grant an interim waiver if it appears likely that the underlying petition for waiver will be granted and/or if DOE determines that it would be desirable for public policy reasons to grant immediate relief pending a determination on the underlying petition for waiver. 10 CFR 430.27(e)(2). Within one year of issuance of an interim waiver, DOE will either: (i) Publish in the Federal Register a determination on the petition for waiver; or (ii) publish in the Federal Register a new or amended test procedure that addresses the issues presented in the waiver. 10 CFR 430.27(h)(1).

When DOE amends the test procedure to address the issues presented in a waiver, the waiver will automatically terminate on the date on which use of that test procedure is required to demonstrate compliance. 10 CFR 430.27(h)(2).

II. FOTILE's Petition for Waiver and Interim Waiver

On October 15, 2020, FOTILE filed a petition for waiver and interim waiver from the test procedure for dishwashers set forth at Appendix C1.⁶ In its petition for waiver, FOTILE stated that the subject dishwasher models, which FOTILE described as “in-sink” dishwashers, do not have a main detergent compartment and have different installation instructions than under-counter or under-sink dishwashers. FOTILE has requested DOE waive sections of the dishwasher test procedure pertaining to installation requirements and placement of the detergent. FOTILE has suggested an alternate test procedure to install the dishwasher basic models from the top of a rectangular enclosure (as opposed to the front) and to specify placement of the detergent directly into the dishwasher chamber.

⁶ The specific basic models for which the petition applies are dishwasher basic models SD2F-P1X and SD2F-P1XL. These basic model names were provided by FOTILE in its October 15, 2020 petition.

FOTILE also requests an interim waiver from the existing DOE test procedure. DOE will grant an interim waiver if it appears likely that the petition for waiver will be granted, and/or if DOE determines that it would be desirable for public policy reasons to grant immediate relief pending a determination of the petition for waiver. 10 CFR 430.27(e)(2).

Based on the assertions in the petition, the installation and detergent placement characteristics of the subject basic models prevent testing of the basic models according to the prescribed test procedure absent an interim waiver.

III. Requested Alternate Test Procedure

EPCA requires that manufacturers use DOE test procedures when making representations about the energy consumption and energy consumption costs of covered products. (42 U.S.C. 6293(c)) Consistency is important when making representations about the energy efficiency of covered products, including when demonstrating compliance with applicable DOE energy conservation standards. Pursuant to 10 CFR 430.27, and after consideration of public comments on the petition, DOE may establish in a subsequent Decision and Order an alternate test procedure for the basic models addressed by the Interim Waiver Order.

FOTILE seeks to use an alternate test procedure to test and rate specific dishwasher basic models. In its petition for waiver, CNA has suggested the following alternate test procedure:

• Update the existing installation requirements in section 2.1 of Appendix C1 to add that, “A compact in-sink dishwasher combined with a sink doesn't have a flat bottom and must be tested in a rectangular enclosure constructed of nominal 0.374 inch (9.5 mm) plywood painted black. The enclosure must consist of a bottom, a front, a back, and two sides, and it shall not have a top. We put the in-sink dishwasher into the enclosure from the top and mounted it to the edges of the enclosure.”

• Update the existing detergent requirements in section 2.10 of Appendix C1 to add that, “For compact dishwashers that have neither prewash program nor a main detergent compartment, determine the amount of main wash detergent (in grams) to be added directly into the dishwasher chamber according to section 2.10.2 of this appendix.”

IV. Interim Waiver Order

DOE has reviewed FOTILE's application for an interim waiver and the alternate test procedure requested by FOTILE. DOE also reviewed manufacturer information available on-line, including the operation manual ⁷ for the specified basic models. Based on this review, the suggested alternate test procedure appears to allow for the accurate measurement of the energy and water consumption of the specified basic models, while alleviating the testing problems associated with FOTILE's implementation of dishwasher testing for these basic models. DOE has initially determined that testing the specified basic models in an enclosure consistent with the manufacturer installation instructions provides results that are more representative of average use. Consequently, DOE has determined that FOTILE's petition for waiver likely will be granted. Furthermore, DOE has determined that it is desirable for public policy reasons to grant FOTILE immediate relief pending a determination of the petition for waiver.

⁷ The operation manual can be found in the docket at https://www.regulations.gov/docket?D=EERE-2020-BT-WAV-0035.

For the reasons stated, it is ordered that:

(1) FOTILE must test and rate the following dishwasher basic models with the alternate test procedure set forth in paragraph (2).

Brand | Basic model
FOTILE | SD2F-P1X
FOTILE | SD2F-P1XL

(2) The alternate test procedure for the FOTILE basic models identified in paragraph (1) of this Interim Waiver Order is the test procedure for dishwashers prescribed by DOE at 10 CFR part 430, subpart B, appendix C1, except that the requirements for dishwasher installation and detergent placement are as detailed below. All other requirements of Appendix C1 and DOE's regulations remain applicable.

In section 2.1, Installation, add at the end of the section:

A compact in-sink dishwasher with a combination sink must be installed in a rectangular enclosure constructed of nominal 0.374 inch (9.5 mm) plywood painted black. The enclosure must consist of a front, a bottom, a back, and two sides and the dishwasher must be installed from the top and mounted to the edges of the enclosure.

In section 2.10, Detergent, add at the end of the section:

For compact in-sink dishwashers with a combination sink that have neither prewash program nor a main detergent compartment, determine the amount of main wash detergent (in grams) to be added directly into the washing chamber according to section 2.10.2 of this appendix.

(3) Representations. FOTILE may not make representations about the energy and water use of a basic model listed in paragraph (1) for compliance, marketing, or other purposes unless that basic model has been tested in accordance with the provisions set forth in this alternate test procedure and such representations fairly disclose the results of such testing.

(4) This Interim Waiver Order shall remain in effect according to the provisions of 10 CFR 430.27.

(5) This Interim Waiver Order is issued on the condition that the statements, representations, test data, and documentary materials provided by FOTILE are valid. If FOTILE makes any modifications to the controls or configurations of a basic model subject to this Interim Waiver Order, such modifications will render the waiver invalid with respect to that basic model, and FOTILE will either be required to use the current Federal test method or submit a new application for a test procedure waiver. DOE may rescind or modify this waiver at any time if it determines the factual basis underlying the petition for the Interim Waiver Order is incorrect, or the results from the alternate test procedure are unrepresentative of the basic model's true energy consumption characteristics. 10 CFR 430.27(k)(1). Likewise, FOTILE may request that DOE rescind or modify the Interim Waiver Order if FOTILE discovers an error in the information provided to DOE as part of its petition, determines that the interim waiver is no longer needed, or for other appropriate reasons. 10 CFR 430.27(k)(2).

(6) Issuance of this Interim Waiver Order does not release FOTILE from the applicable requirements set forth at 10 CFR part 429.

DOE makes decisions on waivers and interim waivers for only those basic models specifically set out in the petition, not future models that may be manufactured by the petitioner. FOTILE may submit a new or amended petition for waiver and request for grant of interim waiver, as appropriate, for additional basic models of dishwashers. Alternatively, if appropriate, FOTILE may request that DOE extend the scope of a waiver or an interim waiver to include additional basic models employing the same technology as the basic model(s) set forth in the original petition consistent with 10 CFR 430.27(g).

Signed in Washington, DC, on December 14, 2020.
Daniel R Simmons,
Assistant Secretary for Energy Efficiency and Renewable Energy.

Petition of Ningbo FOTILE Kitchen Ware Co. Ltd for Waiver and Interim Waiver of Test Procedure for Residential Dishwasher SD2F-P1X&SD2F-P1XL

Ningbo FOTILE Kitchen Ware Co. Ltd respectfully submits this petition for Waiver and for Interim Waiver of the Department of Energy (DOE or Department) test procedure for residential dishwashers. Specifically, FOTILE seeks a waiver for its very-small-capacity, highly compact, 3-IN-1 in-sink dishwasher because it contains design characteristics that prevent testing according to the test procedures from Appendix C1. This dishwasher does not have a main detergent compartment and has different installation instructions than under-counter or under-sink dishwashers. As a result, the current test procedure is not representative of consumers' use of the product or the product's energy and water consumption characteristics. As described below, FOTILE proposes an alternative test procedure for this dishwasher that will allow FOTILE to test the product and determine its' compliance in accordance with the Department's current energy conservation standards for residential dishwashers.

FOTILE Group, based on Ningbo China, has been focusing on high-end kitchen appliances since its foundation in 1996. FOTILE's business footprints have covered more than 30 countries, including the United States, Canada, Malaysia, Indonesia, Australia, etc. FOTILE markets its products only under the “FOTILE” brand in the United States.

I. Model for Which a Waiver Is Requested

The Basic models for which a waiver is requested are SD2F-P1X and SD2F-P1XL. Both of these models include a sink and a dishwasher combined into one unit. These two models are basically identical. They have the same electrical, physical, and functional characteristics that affect energy consumption, energy efficiency, water consumption, and water efficiency. The only difference between SD2F-P1X and SD2F-P1XL is the position of the sink and the dishwasher. The dishwasher chamber of SD2F-P1X is on the right and of SD2F-P1XL is on the left. As a result, these basic models can use the same petition for Waiver and for Interim Waiver.

II. Need for the Requested Waiver

The FOTILE non-soil-sensing in-sink dishwasher is a highly beneficial product, especially suitable for small families, tiny house structures, RVs, home bars, secondary kitchens, and other space-constrained places. The unit uses less time to finish a normal wash, which is approximately 45min with excellent washing results. It also has beneficial design characteristics to avoid having to bend when loading and unloading dishes.

To the best of FOTILE's knowledge, FOTILE is unable to identify any other manufactures distributing residential dishwasher models in commerce in the United States that incorporate all of the design characteristics that are the subject of this petition.

According to the Appendix C1, FOTILE in-sink dishwasher is a compact dishwasher, as it can only hold 2 place settings and 6 serving pieces. The current test procedure for compact dishwasher is set forth in Appendix C1.

FOTILE requires a wavier because the design characteristics of its in-sink dishwasher prevent testing of the product according to the prescribed DOE test procedure. The first reason we require a waiver is, the FOTILE in-sink dishwasher does not have a main detergent compartment. Consumers can add dishwasher detergent directly into the dishwasher chamber. The second reason we are applying for a waiver is this unit is combined with a sink and has a different height, so the machine does not have a flat bottom, and cannot stand on the ground. Therefore, the installation instructions are different from a traditional under-counter dishwasher. Because of these two design characteristics, this unit cannot be tested in accordance with sections of the test procedure regarding adding detergent and installation requirements. As described further below, FOTILE therefore requests a waiver of those aspects of the test procedure and proposes an alternative in which the detergent is put directly into the dishwasher chamber, and the unit is mounted into a counter top cut-out enclosure.

FOTILE submits that the procedure is representative of consumer use and thus, representative of the product's true energy and water consumption characteristics.

111. Proposed Alternate Test Procedure

FOTILE proposed the following alternative test procedure to evaluate the performance of the model that is subject of the waiver request. The alternative test procedure is the same as the existing test procedure for residential dishwasher except that it considers that the unit doesn't have a main detergent compartment and doesn't have a flat bottom.

FOTILE shall be required to test the performance of the model subject to the waiver according to the test procedure for residential dishwashers in 10 CFR part 430, subpart B, Appendix C1, except as follows:

Add the following at the end of section 2.10 of Appendix C1:

“For compact dishwashers that have neither prewash program nor a main detergent compartment, determine the amount of main wash detergent (in grams) to be added directly into the dishwasher chamber according to section 2.10.2 of this appendix.”

Add the following at the end of section 2.1 of Appendix C1:

“A compact in-sink dishwasher combined with a sink doesn't have a flat bottom and must be tested in a rectangular enclosure constructed of nominal 0.374inch (9.5mm) plywood painted black. The enclosure must consist of a bottom, a front, a back, and two sides, and it shall not have a top. We put the in-sink dishwasher into the enclosure from the top and mounted it to the edges of the enclosure.”

IV. Petition for Interim Waiver

FOTILE also hereby applies for an Interim Waiver of the applicable test procedure requirement for its very-small-capacity, highly compact, 3-IN-1 in-sink residential dishwasher. The models for which the Interim Waiver is requested are SD2F-P1X and SD2F-P1XL. These models will be marketed in commerce under the FOTILE brand name. Based on these facts, we feel FOTILE meets the criteria for an Interim Waiver. Without waiver relief, FOTILE would be subject to requirements that clearly cannot apply to this product. In addition, FOTILE would most likely suffer economic hardship and be at a competitive disadvantage if it cannot gain DOE approval and start to distribute in the United States.

FOTILE's in-sink dishwasher meets consumers' needs in today's marketplace because it is highly compact, easy to install, saves time, and eliminates having to bend down while loading and unloading dishes. It is also an affordable, energy-efficient alternative for consumers to choose. In FOTILE's opinion, we feel there is no basis to delay this innovative product from entering the marketplace.

V. Conclusion

FOTILE respectfully requests that DOE grant its Petition for Waiver of the applicable test procedure and grant its Petition for Interim Waiver for the specified models.

FOTILE also submits its test report according to the alternate test procedure included in the attachment.

Thank you for your timely attention on reviewing this application of petition for Waiver and for Interim Waiver.

Respectfully submitted,

/s/

Guoqing Hu,

Director of Product Department.

Ningbo FOTILE Kitchen Ware Co. Ltd

No.218 Binhai 2nd Road, Hangzhou Bay New District, Ningbo, China(315336)

[FR Doc. 2020-28497 Filed 2-5-21; 8:45 am]

BILLING CODE 6450-01-P